DEPARTMENT OF TRANSPORTATION

Federal Aviation Administration

Availability of Finding of No Significant Impact (FONSI) (New), St. Marys Airport, St. Marys, GA

AGENCY: Federal Aviation Administration, DOT.

ACTION: Notice.

SUMMARY: The Federal Aviation Administration (FAA) Atlanta Airports District Office on March 27, 2007, issued a Finding of No Significant Impact for proposed construction of a replacement airport at St. Marys, Georgia. Copies of the FONSI are available for review by the public for thirty (30) days at the following location: Federal Aviation Administration, Atlanta Airports District Office, 1701 Columbia Ave., Campus Building 2-260, College Park, Georgia 30337.

Scott Seritt,
Manager, Atlanta Airports District Office.

[FR Doc. 07-2209 Filed 5-4-07; 8:45 am]

BILLING CODE 4910-13-M